DEPARTMENT OF TRANSPORTATION

Federal Aviation Administration

RIN 2120-AA66

Record of Decision To Adopt U.S. Air Force Final Environmental Impact Statement for the Powder River Training Complex

AGENCY: Federal Aviation Administration (FAA), DOT.

ACTION: Notice of record of decision.

SUMMARY: In accordance with Section 102 of the National Environmental Policy Act of 1969 (“NEPA”), the Council on Environmental Quality's (“CEQ”) regulations implementing NEPA (40 CFR parts 1500-1508), and other applicable authorities, including FAA Order 1050.1E, Environmental Impacts: Policies and Procedures, paragraph 518h, and FAA Order JO 7400.2K, “Procedures for Handling Airspace Matters,” paragraph 32-2-3, the FAA has conducted an independent review and evaluation of the Air Force's Final Environmental Impact Statement (FEIS) for the proposed expansion of airspace for the Powder River Training Complex (PRTC), dated November 28, 2014. As a cooperating agency with responsibility for approving special use airspace under 49 U.S.C. 40103(b)(3)(A), the FAA provided subject matter expertise and closely coordinated with the Air Force during the environmental review process, including preparation of the Draft EIS and the FEIS. Based on its independent review and evaluation, the FAA has determined the FEIS, including its supporting documentation, as incorporated by reference, adequately assesses and discloses the environmental impacts of the proposed expansion of airspace for PRTC, and that adoption of the FEIS by the FAA is authorized under 40 CFR 1506.3, Adoption.

Accordingly, the FAA adopts the FEIS, and takes full responsibility for the scope and content that addresses the proposed expansion of airspace for PRTC.

DATES: Effective date: March 31, 2015.

FOR FURTHER INFORMATION CONTACT: William Burris, Airspace Policy and Regulations Group, Office of Airspace Services, Federal Aviation Administration, 800 Independence Avenue SW., Washington, DC 20591; telephone: (202) 267-8656.

SUPPLEMENTARY INFORMATION:

Background

In August 2010, in accordance with the National Environmental Policy Act and its implementing regulations, the Air Force released a Draft EIS. The Draft EIS presented the potential environmental consequences of the Air Force's proposal to improve training for primarily bomber aircrews assigned to Ellsworth Air Force Base (AFB) and Minot AFB.

As a result of public, agency, and tribal comments during the 100-day public comment period on the Draft EIS, and the FAA aeronautical review process, the Air Force, FAA, other federal and state agencies, and tribal governments have consulted to mitigate concerns while continuing to meet national defense training requirements. The Air Force participated in continued communication, consultation, and/or meetings with state agencies and tribal representatives from 2008 through 2014. Consultation and coordination on potential environmental and related impacts will continue after completion of the FEIS. The Air Force is the proponent for the PRTC and is the lead agency for the preparation of the FEIS. The FAA is a cooperating agency responsible for approving special use airspace as defined in 40 CFR 1508.5.

Implementation

As a result of the public comments received, the aeronautical studies, environmental analysis, and the USAF using agency and FAA controlling agency concurrence on mitigation measures to address public issues and aeronautical impacts, the FAA is establishing the PRTC MOAs as circularized to the public from February through May 2014, with two minor boundary adjustments. The adjustments include a larger cutout in the southern boundary of the PR-2 Low and High MOAs for arrivals and departures into Hulett, WY, and an adjustment of the southern boundaries of the Gap B and Gap C MOAs to avoid the Gap B MOAs extending across VOR Federal airway V-491.

The legal descriptions for the PRTC MOAs being established, as noted in this notice, will be published in the NFDD with a September 17, 2015 effective date.

Activating or scheduling the Powder River PR-1A-D Low, PR-3 Low, Gap A Low, and Gap B Low MOAs is not authorized until communication coverage is established by the USAF for these areas. This ensures the ability to recall airspace for civil IFR use. The following conditions must be accomplished prior to FAA approval for activating or scheduling the Low MOAs:

1. The USAF must notify Manager, Airspace Policy and Regulations when the communications capability mitigation described in the FEIS is established.

2. The FAA must accept that the communications capability established by the USAF complies with the mitigation described in the FEIS. If no validation information is provided with the USAF notice, the FAA will request it. The communication capability acceptance is to be accomplished by the Airspace Policy and Regulations Group in concert with the Central Service Center Operations Support Group (OSG).

3. The FAA controlling agencies and USAF using agency must establish MOA recall procedures which will enable controlling agencies to recall the low MOA airspace whenever necessary to allow IFR aircraft access to and from public use airports underlying the MOA.

4. The USAF must accomplish public outreach to all known aviation interested persons, organizations, and offices within 50 miles of the PRTC 60-days prior to the first planned scheduling and use of the PRTC Low MOAs once the conditions above are accomplished.

Upon completion of the conditions established above for the scheduling and activating of the PRTC Low MOAs identified, the USAF will be authorized to schedule and use all PRTC MOAs consistent with their designated purpose.

A copy of the FAA Record of Decision is available on the FAA Web site.

Right of Appeal: The Adoption/ROD for the expansion of PRTC constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the date of this notice in accordance with the provisions of 49 U.S.C. 46110. Any party seeking to stay implementation of the action as stated in the ROD must file an application with the FAA prior to seeking judicial relief as provided in Rule 18(a) of the Federal Rules of Appellate Procedure.

Issued in Washington, DC, on March 25, 2015.
Jacqueline R. Jackson,
Acting Manager, Airspace Policy and Regulations Group.

[FR Doc. 2015-07324 Filed 3-30-15; 8:45 am]

BILLING CODE 4910-13-P